DEPARTMENT OF TRANSPORTATION

Federal Aviation Administration

14 CFR Part 39

[Docket No. FAA-2006-25175; Directorate Identifier 2006-NM-099-AD; Amendment 39-14670; AD 2006-13-17]

RIN 2120-AA64

Airworthiness Directives; Boeing Model 757-200 Series Airplanes Modified by Supplemental Type Certificate (STC) SA979NE

AGENCY: Federal Aviation Administration (FAA), Department of Transportation (DOT).

ACTION: Final rule; correction.

SUMMARY: The FAA is correcting a typographical error in an existing airworthiness directive (AD) that was published in the Federal Register on June 28, 2006 (71 FR 36671). The error resulted in the misidentification of the manufacturer name in the product identification line of the regulatory text. This AD applies to certain Boeing Model 757-200 series airplanes. This AD requires a one-time deactivation of the auxiliary fuel system, repetitive venting and draining of the auxiliary fuel tank sumps, and revising the Limitations section of the airplane flight manual to limit the maximum cargo weight.

DATES: Effective July 13, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2006-25175; the directorate identifier for this docket is 2006-NM-099-AD.

FOR FURTHER INFORMATION CONTACT: Jon Hjelm, Aerospace Engineer, Airframe and Propulsion Branch, ANE-171, FAA, New York Aircraft Certification Office, 1600 Stewart Avenue, Suite 410, Westbury, New York 11590; telephone (516) 228-7323; fax (516) 794-5531.

SUPPLEMENTARY INFORMATION: On June 15, 2006, the FAA issued AD 2006-13-17, amendment 39-14670 (71 FR 36671, June 28, 2006), for certain Boeing Model 757-200 series airplanes. The AD requires a one-time deactivation of the auxiliary fuel system, repetitive venting and draining of the auxiliary fuel tank sumps, and revising the Limitations section of the airplane flight manual to limit the maximum cargo weight.

As published, the manufacturer name is misidentified in the product identification line of the regulatory text.

No other part of the regulatory information has been changed; therefore, the final rule is not republished in the Federal Register.

The effective date of this AD remains July 13, 2006.

§ 39.13 [Corrected]

In the Federal Register of June 28, 2006, on page 36673, in the second column, the product identification line of AD 2006-13-17 is corrected to read as follows:

* * * * *

2006-13-17 Boeing: Amendment 39-14670. Docket No. FAA-2006-25175; Directorate Identifier 2006-NM-099-AD.

* * * * *

Issued in Renton, Washington, on July 6, 2006.
Ali Bahrami,
Manager, Transport Airplane Directorate, Aircraft Certification Service.

[FR Doc. 06-6181 Filed 7-12-06; 8:45 am]

BILLING CODE 4910-13-P